DEPARTMENT OF LABOR

Occupational Safety and Health Administration

National Advisory Committee on Occupational Safety and Health; Notice of Meeting

Notice is hereby given of the date and location of the next meeting of the National Advisory Committee on Occupational Safety and Health (NACOSH), established under section 7(a) of the Occupational Safety and Health Act of 1970 (29 U.S.C. 656) to advise the Secretary of Labor and the Secretary of Health and Human Services on matters relating to the administration of the Act. NACOSH will hold a meeting on June 6, 2000, in Room N 5437 A-D of the Department of Labor Building located at 200 Constitution Avenue NW., Washington, DC. The meeting is open to the public and will begin at 9:00 a.m. lasting until approximately 4 p.m. However, if work is completed earlier on the draft report the committee will be working on, the meeting may end sooner.

During this November 1998 meeting, NACOSH decided that one of its areas of activity over the next two years would be to study OSHA's standards development process. The Committee has now completed its study after holding panel discussions during the last four meetings involving internal staff and members of the public who were involved with the OSHA standards setting process. This included people who had been involved with the development of the methylene chloride standard; those who had served on two types of advisory committees; representatives of consensus standards setting organizations and other professional associations; and representatives of other Federal regulatory agencies. During its June 6 meeting, the committee will be going over the final draft report and recommendations in full detail. It is difficult to estimate how long this will take.

The only other agenda item will be an overview of current activities of the Occupational Safety and Health Administration (OSHA) and the National Institute for Occupational Safety and Health (NIOSH) which will be the first agenda item.

Written data, views or comments for consideration by the committee may be submitted, preferably with 20 copies, to Joanne Goodell at the address provided below. Any such submissions received prior to the meeting will be provided to the members of the Committee and will be included in the record of the meeting. Because of the need to cover a wide variety of subjects in a short period of time, there is usually insufficient time on the agenda for members of the public to address the committee orally. However, any such requests will be considered by the Chair who will determine whether or not time permits. Any request to make an oral presentation should state the amount of time desired, the capacity in which the person would appear, and a brief outline of the content of the presentation. Individuals with disabilities who need special accommodations should contact Veneta Chatmon (phone: 202-693-1912; FAX: 202-693-1634) one week before the meeting.

An official record of the meeting will be available for public inspection in the OSHA Technical Data Center (TDC) located in Room N2625 of the Department of Labor Building (202-693-2350). For additional information contact: Joanne Goodell, Occupational Safety and Health Administration (OSHA); Room N-3641, 200 Constitution Avenue NW., Washington, DC 20210 (phone: 202-693-2400; FAX: 202-693-1641; e-mail: joanne.goodell@osha.gov; or at www.osha.gov).

Signed at Washington, DC, this 10th day of May 2000.
Charles N. Jeffress,
Assistant Secretary of Labor for Occupational Safety and Health.

[FR Doc. 00-12289 Filed 5-15-00; 8:45 am]

BILLING CODE 4510-26-M